DEPARTMENT OF ENERGY

Federal Energy Regulatory Commission

Combined Notice of Filings #1

Take notice that the Commission received the following electric rate filings:

Docket Numbers: ER10-1355-005.

Applicants: Southern California Edison Company.

Description: Notice of Non-Material Change in Status of Southern California Edison Company.

Filed Date: 6/20/16.

Accession Number: 20160620-5039.

Comments Due: 5 p.m. ET 7/11/16.

Docket Numbers: ER13-1943-005.

Applicants: Midcontinent Independent System Operator, Inc.

Description: Compliance filing: 2016-06-20_MISO-PJM Interregional Order 1000 Compliance Filing to be effective 1/1/2014.

Filed Date: 6/20/16.

Accession Number: 20160620-5072.

Comments Due: 5 p.m. ET 7/11/16.

Docket Numbers: ER13-1944-004.

Applicants: PJM Interconnection, L.L.C.

Description: Compliance filing: Compliance filing per 4/5/2016 order in Docket Nos. ER13-1944 et al. to be effective 1/1/2014.

Filed Date: 6/20/16.

Accession Number: 20160620-5107.

Comments Due: 5 p.m. ET 7/11/16.

Docket Numbers: ER14-2850-009.

Applicants: Southwest Power Pool, Inc.

Description: Compliance filing: Compliance Filing to Incorporate the Terms of the MDU Settlement in ER14-2850 to be effective 1/1/2016.

Filed Date: 6/20/16.

Accession Number: 20160620-5126.

Comments Due: 5 p.m. ET 7/11/16.

Docket Numbers: ER16-1485-001.

Applicants: Midcontinent Independent System Operator, Inc.

Description: Tariff Amendment: 2016-06-20_MI ONT PARS MISO-PJM JOA Amendment to be effective 7/28/2016.

Filed Date: 6/20/16.

Accession Number: 20160620-5042.

Comments Due: 5 p.m. ET 7/11/16.

Docket Numbers: ER16-1486-001.

Applicants: PJM Interconnection, L.L.C.

Description: Tariff Amendment: Amendment to 4/22/16 Filing of Revisions to MISO-PJM JOA re MI-Ont PARS to be effective 7/28/2016.

Filed Date: 6/20/16.

Accession Number: 20160620-5041.

Comments Due: 5 p.m. ET 7/11/16.

Docket Numbers: ER16-1609-001.

Applicants: ID SOLAR 1, LLC.

Description: Tariff Amendment: Amendment to 1 to be effective 12/31/9998.

Filed Date: 6/20/16.

Accession Number: 20160620-5108.

Comments Due: 5 p.m. ET 7/11/16.

Docket Numbers: ER16-1959-000.

Applicants: Southwest Power Pool, Inc.

Description: § 205(d) Rate Filing: 2824R3 KMEA & Sunflower Meter Agent Agreement to be effective 6/1/2016.

Filed Date: 6/20/16.

Accession Number: 20160620-5038.

Comments Due: 5 p.m. ET 7/11/16.

Docket Numbers: ER16-1960-000.

Applicants: Duke Energy Florida, LLC.

Description: § 205(d) Rate Filing: DEF CWIP Settlement Compliance Filing to be effective 1/1/2014.

Filed Date: 6/20/16.

Accession Number: 20160620-5058.

Comments Due: 5 p.m. ET 7/11/16.

Docket Numbers: ER16-1961-000.

Applicants: Public Service Company of Colorado.

Description: § 205(d) Rate Filing: 20160620_Burlington Refiled to be effective 10/1/2014.

Filed Date: 6/20/16.

Accession Number: 20160620-5059.

Comments Due: 5 p.m. ET 7/11/16.

Docket Numbers: ER16-1962-000.

Applicants: San Joaquin Cogen, LLC.

Description: § 205(d) Rate Filing: SJC Category 1 Notice re SW & 784/819 Revisions to be effective 6/21/2016.

Filed Date: 6/20/16.

Accession Number: 20160620-5060.

Comments Due: 5 p.m. ET 7/11/16.

Docket Numbers: ER16-1963-000.

Applicants: Public Service Company of Colorado.

Description: § 205(d) Rate Filing: 20160620_Burlington Refiled TS to be effective 4/16/2016.

Filed Date: 6/20/16.

Accession Number: 20160620-5069.

Comments Due: 5 p.m. ET 7/11/16.

Docket Numbers: ER16-1964-000.

Applicants: PacifiCorp.

Description: § 205(d) Rate Filing: Amendment to Cost-Based Rate Schedule to be effective 6/9/2016.

Filed Date: 6/20/16.

Accession Number: 20160620-5071.

Comments Due: 5 p.m. ET 7/11/16.

Docket Numbers: ER16-1965-000.

Applicants: Entergy Louisiana, LLC.

Description: § 205(d) Rate Filing: Entergy OpCos Residual Load Allocation Agreement to be effective 9/1/2016.

Filed Date: 6/20/16.

Accession Number: 20160620-5097.

Comments Due: 5 p.m. ET 7/11/16.

Docket Numbers: ER16-1966-000.

Applicants: NorthWestern Corporation.

Description: § 205(d) Rate Filing: Revised Rate Schedule FERC No. 188(MT)—Colstrip 1 and 2 Transmission Agreement to be effective 9/1/2016.

Filed Date: 6/20/16.

Accession Number: 20160620-5098.

Comments Due: 5 p.m. ET 7/11/16.

Take notice that the Commission received the following electric securities filings:

Docket Numbers: ES16-40-000.

Applicants: NSTAR Electric Company.

Description: Application of NSTAR Electric Company for Authority to Issue Short-Term Debt Securities.

Filed Date: 6/20/16.

Accession Number: 20160620-5083.

Comments Due: 5 p.m. ET 7/11/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 20, 2016.
Nathaniel J. Davis, Sr.,
Deputy Secretary.

[FR Doc. 2016-15272 Filed 6-28-16; 8:45 am]

BILLING CODE 6717-01-P